DEPARTMENT OF THE INTERIOR

Truckee River Operating Agreement, California and Nevada

AGENCY: Department of the Interior.

ACTION: Extension of comment period for review of revised draft environmental impact statement/environmental impact report (revised draft EIS/EIR).

SUMMARY: The U.S. Department of the Interior and California Department of Water Resources (DWR) as co-lead agencies are extending the review period for the revised draft EIS/EIR to December 30, 2004. The notice of availability of the revised draft EIS/EIR and notice of open house meetings (six meetings held on September 21 to 23 and October 1) and notice of public hearings (six hearings held October 18 to 21) were published in the Federal Register on August 25, 2004 (69 FR 52303). The public review period was originally scheduled to end on October 29, 2004.

DATES: Submit comments on the revised draft EIS/EIR on or before December 30, 2004.

ADDRESSES: Written comments on the revised draft EIS/EIR should be mailed to Kenneth Parr, Bureau of Reclamation (Reclamation), 705 North Plaza St., Rm. 320, Carson City, NV 89701.

FOR FURTHER INFORMATION CONTACT: Kenneth Parr, Reclamation, telephone 775-882-3436, TDD 775-882-3436, fax 775-882-7592, e-mail: kparr@mp.usbr.gov; or Michael Cooney, DWR, telephone 916-227-7606, fax 916-227-7600, e-mail; mikec@water.ca.gov. A copy of the revised draft EIS/EIR may be obtained by writing to the above address or calling Reclamation at 800-742-9474 and then dial code 26 or 775-882-3436 or DWR at 916-227-7606. Information is also available at the Reclamation Web site at: http://www.usbr.gov/mp/troa/.

SUPPLEMENTARY INFORMATION: Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety. We will not accept any comments submitted anonymously.

Dated: October 26, 2004.
Willie R. Taylor,
Director, Office of Environmental Policy and Compliance.

[FR Doc. 04-25120 Filed 11-9-04; 8:45 am]

BILLING CODE 4310-MN-P